DEPARTMENT OF ENERGY

Federal Energy Regulatory Commission

Combined Notice of Filings #1

Take notice that the Commission received the following electric corporate filings:

Docket Numbers: EC17-93-000.

Applicants: Otter Tail Power Company.

Description: Request for Approvals Pursuant To Section 203 of the Federal Power Act of Otter Tail Power Company.

Filed Date: 3/16/17.

Accession Number: 20170316-5229.

Comments Due: 5 p.m. ET 4/6/17.

Docket Numbers: EC17-94-000.

Applicants: Otter Tail Power Company.

Description: Request for Approvals Pursuant to Section 203 of the Federal Power Act of Otter Tail Power Company.

Filed Date: 3/16/17.

Accession Number: 20170316-5233.

Comments Due: 5 p.m. ET 4/6/17.

Docket Numbers: EC17-95-000.

Applicants: Otter Tail Power Company.

Description: Request for Approvals Pursuant To Section 203 of the Federal Power Act of Otter Tail Power Company.

Filed Date: 3/16/17.

Accession Number: 20170316-5235.

Comments Due: 5 p.m. ET 4/6/17.

Docket Numbers: EC17-96-000.

Applicants: Otter Tail Power Company.

Description: Request for Approvals Pursuant to Section 203 of the Federal Power Act of Otter Tail Power Company.

Filed Date: 3/16/17.

Accession Number: 20170316-5237.

Comments Due: 5 p.m. ET 4/6/17.

Take notice that the Commission received the following exempt wholesale generator filings:

Docket Numbers: EG17-79-000.

Applicants: Gulf Coast Solar Center I, LLC.

Description: Self-Certification of EWG Status of Gulf Coast Solar Center I, LLC.

Filed Date: 3/20/17.

Accession Number: 20170320-5208.

Comments Due: 5 p.m. ET 4/10/17.

Docket Numbers: EG17-80-000.

Applicants: Gulf Coast Solar Center II, LLC.

Description: Self-Certification of EWG Status of Gulf Coast Solar Center II, LLC.

Filed Date: 3/20/17.

Accession Number: 20170320-5209.

Comments Due: 5 p.m. ET 4/10/17.

Docket Numbers: EG17-81-000.

Applicants: Gulf Coast Solar Center III, LLC.

Description: Self-Certification of EWG Status of Gulf Coast Solar Center III, LLC.

Filed Date: 3/20/17.

Accession Number: 20170320-5212.

Comments Due: 5 p.m. ET 4/10/17.

Take notice that the Commission received the following electric rate filings:

Docket Numbers: ER12-2708-005.

Applicants: Potomac-Appalachian Highline Transmission, PJM Interconnection, L.L.C.

Description: Compliance filing: PATH ROE Compliance Filing re Opinion 554 in ER09-1256 and ER12-2708 to be effective 1/19/2017.

Filed Date: 3/20/17.

Accession Number: 20170320-5155.

Comments Due: 5 p.m. ET 4/10/17.

Docket Numbers: ER17-1248-000.

Applicants: Southern California Edison Company.

Description: § 205(d) Rate Filing: Amended and Restated Service Agreements with City of Victorville to be effective 4/1/2017.

Filed Date: 3/17/17.

Accession Number: 20170317-5179.

Comments Due: 5 p.m. ET 4/7/17.

Docket Numbers: ER17-1257-000.

Applicants: Southern California Edison Company.

Description: § 205(d) Rate Filing: DSA for Decade Dairy Digester Project, SA No. 952 to be effective 5/22/2017.

Filed Date: 3/20/17.

Accession Number: 20170320-5154.

Comments Due: 5 p.m. ET 4/10/17.

Docket Numbers: ER17-1258-000.

Applicants: Canadian Wood Products-Montreal, Inc.

Description: Tariff Cancellation: Cancellation filing to be effective 3/21/2017.

Filed Date: 3/20/17.

Accession Number: 20170320-5169.

Comments Due: 5 p.m. ET 4/10/17.

Docket Numbers: ER17-1259-000.

Applicants: ITC Midwest LLC.

Description: § 205(d) Rate Filing: Filing of a Joint Use Agreement to be effective 5/19/2017.

Filed Date: 3/20/17.

Accession Number: 20170320-5182.

Comments Due: 5 p.m. ET 4/10/17.

Docket Numbers: ER17-1260-000.

Applicants: Wisconsin Public Service Corporation.

Description: § 205(d) Rate Filing: Wisconsin Public Service Corporation's Annual PEB/PBOP Filing to be effective 4/1/2017.

Filed Date: 3/20/17.

Accession Number: 20170320-5184.

Comments Due: 5 p.m. ET 4/10/17.

Docket Numbers: ER17-1261-000.

Applicants: Otter Tail Power Company.

Description: § 205(d) Rate Filing: Filing of Certificate of Concurrence to be effective 1/25/2017.

Filed Date: 3/20/17.

Accession Number: 20170320-5193.

Comments Due: 5 p.m. ET 4/10/17.

Take notice that the Commission received the following public utility holding company filings:

Docket Numbers: PH17-12-000.

Applicants: Macquarie Sierra Investment Holdings, In, Electrodes Holdings, LLC, Watt Battery Holdings, LLC, Battery Storage Holdings, LLC, Sparks Battery Holdings, LLC, Sparks Battery Holdings 2, LLC.

Description: Macquarie Sierra Investment Holdings, Inc., et. al. submits FERC 65-B Waiver Notification.

Filed Date: 3/17/17.

Accession Number: 20170317-5200.

Comments Due: 5 p.m. ET 4/7/17.

Take notice that the Commission received the following electric reliability filings:

Docket Numbers: RD17-5-000.

Applicants: North American Electric Reliability Corporation.

Description: Joint Petition of the North American Electric Reliability Corporation and Western Electricity Coordinating Council for Approval of Proposed Regional Reliability Standard VAR-501-WECC-3.

Filed Date: 3/10/17.

Accession Number: 20170310-5318.

Comments Due: 5 p.m. ET 4/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2017.
Nathaniel J. Davis, Sr.,
Deputy Secretary.

[FR Doc. 2017-05847 Filed 3-23-17; 8:45 am]

BILLING CODE 6717-01-P